DEPARTMENT OF THE TREASURY

Submission for OMB Review; Comment Request

April 13, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before May 22, 2006 to be assured of consideration.

Internal Revenue Service (IRS)

OMB Number: 1545-0168.

Type of Review: Extension.

Title: Application for Exemption from Self-Employment Tax Use by Ministers, Members of Religious Orders and Christian Science Practitioners.

Form: IRS Form 4361.

Description: Form 4361 is used by ministers, members of religious orders, or Christian Science practitioners to file for an exemption from self-employment tax on certain earnings and to certify that they have informed the church or order that they are opposed to the acceptance of certain public insurance benefits.

Respondents: Individuals or households.

Estimated Total Burden Hours: 10,168 hours.

OMB Number: 1545-0441.

Type of Review: Extension.

Title: Form 6559, Transmitter Report and Summary of Magnetic Media; Form 6559-A, Continuation Sheet for Form 6559.

Form: IRS Form 6559 and 6559-A.

Description: Forms 6559 and 6559-A are used by filers of Form W-2 wage and tax data to transmit filing on magnetic media. SSA and IRS need signed and summary data for processing purposes. The forms are used primarily by large employers and tax filing services (Service bureaus).

Respondents: Business or other for-profit; Not-for-profit institutions; Farms; Federal Government; State, local or tribal government.

Estimated Total Burden Hours: 27,000 hours.

OMB Number: 1545-0919.

Type of Review: Extension.

Title: Limitations on Percentage Depletion in the Case of Oil and Gas Wells (PS-105-75) Final.

Description: The regulations require each partner to separately keep records of his share of the adjusted basis of partnership oil and gas property and require each partnership, trusts, estate, and operator to provide information necessary to certain persons to compute depletion with respect to oil and gas.

Respondents: Business or other for-profit.

Estimated Total Burden Hours: 1 hour.

OMB Number: 1545-1347.

Type of Review: Extension.

Title: FI-7-94 and FI-36-92 (Final).

Description: The Code limits the ability of State and local government issuers of tax-exempt bonds to earn and/or keep arbitrage profits earned with bond proceeds. This regulation requires recordkeeping of certain interest rate hedges so that the hedges are taken into account in determining those profits.

Respondents: State, local or tribal government.

Estimated Total Burden Hours: 42,050 hours.

OMB Number: 1545-1431.

Type of Review: Extension.

Title: Substantiation Requirement for Certain Contributions 1A-74-93 (Final)

Description: These regulations provide that, for purposes of substantiation for certain charitable contributions, consideration does not include de minimis goods or services. It also provides guidance on how taxpayers may satisfy the substantiation requirement for contributions of $250 or more.

Respondents: Individuals or households; Business or other for-profit; Not-for-profit institutions.

Estimated Total Burden Hours: 51,500 hours.

OMB Number: 1545-1510.

Type of Review: Extension.

Title: Revenue Procedure 96-60, Procedure for filing Forms W-2 is certain Acquisitions.

Description: Information is required by the Internal Revenue Service to assist predecessor and successor employers in complying with the reporting requirements under Code sections 6051 and 6011 for Forms W-2 and 941.

Respondents: Business or other for-profit.

Estimated Total Burden Hours: 110,700 hours.

OMB Number: 1545-1533.

Type of Review: Extension.

Title: Revenue Procedure 97-22, 26 CFR 601.105 Examination of returns and claims for refund, credits, or abatement, determination of correct tax liability.

Description: The information requested in Revenue Procedure 97-22 under sections 4 and 5 is required to ensure that records maintained in an electronic storage system will constitute records within the meaning of section 6001.

Respondents: Individuals or households; Business or other for-profit; Not-for-profit institutions; Farms; Federal Government; State, local or tribal government.

Estimated Total Burden Hours: 1,000,400 hours.

OMB Number: 1545-1667.

Type of Review: Extension.

Title: Revenue Procedure 99-50 Combined Information Reporting.

Description: The revenue procedure permits combined information reporting by a successor “business entity” (i.e., a corporation, partnership, or sole proprietorship) in certain situations following a merger or an acquisition. The successor must file a statement with the Internal Revenue Service indicating what forms are being filed on a combined basis.

Respondents: Business or other for-profit; Not-for-profit institutions; Farms.

Estimated Total Burden Hours: 500 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Michael A. Robinson,
Treasury PRA Clearance Officer.

[FR Doc. E6-5914 Filed 4-19-06; 8:45 am]

BILLING CODE 4830-01-P